ENVIRONMENTAL PROTECTION AGENCY

[Docket No. EPA-HQ-OW-2015-0056; FRL 9942-46-OW]

National Advisory Council for Environmental Policy and Technology: Assumable Waters Subcommittee; Notice of Public Meetings

AGENCY: Environmental Protection Agency (EPA).

ACTION: Notice of federal advisory subcommittee meetings.

SUMMARY: Consistent with the Federal Advisory Committee Act, Public Law 92463, the Environmental Protection Agency (EPA) is giving notice of two upcoming public meetings of the Assumable Waters Subcommittee convened under the National Advisory Council for Environmental Policy and Technology (NACEPT). The Assumable Waters Subcommittee will provide advice and recommendations on how the EPA can best clarify assumable waters for dredge and fill permit programs pursuant to the Clean Water Act section 404(g)(1). The EPA is undertaking this effort to support states and tribes that wish to assume the program. Similar to the parent NACEPT, the subcommittee represents a diversity of interests from academia, industry, non-governmental organizations, and local, State, and tribal governments.

Meeting agendas and materials will be posted at www2.epa.gov/cwa-404/assumable-waters-sub-committee.

DATES: The Assumable Waters Subcommittee will hold two 3-day public meetings on:

• March 15 and 16, 2016, from 9 a.m. to 5 p.m.; and on March 17, 2016, 9 a.m. to 3 p.m. in the One Potomac Yard Building in Arlington, VA.

• June 7 through 9, 2016, from 9 a.m. to 5 p.m., in the One Potomac Yard Building in Arlington, VA.

ADDRESSES: One Potomac Yard, 2777 Crystal Dr., Arlington, VA, 22202.

FOR FURTHER INFORMATION CONTACT: Laura Bachle, Designated Federal Officer, via Email at: assumablewaters@epa.gov, by phone: (202) 566-2468, via postal service at: U.S. EPA, Office of Wetlands, Oceans and Watersheds, 1200 Pennsylvania Avenue NW., Washington, DC, 20460.

SUPPLEMENTARY INFORMATION: Requests to make oral comments or to provide written comments to the Assumable Waters Subcommittee should be sent to Laura Bachle via Email at: assumablewaters@epa.gov by March 4, 2016, for the March meeting and by May 27, 2016, for the June meeting. The meetings are open to the public, with limited seating available on a first-come, first-served basis. Members of the public wishing to attend should contact Laura Bachle via Email at: assumablewaters@epa.gov or by phone at: (202) 566-2468 by March 4, 2016, for the March meeting and by May 27, 2016, for the June meeting. Public comments will be heard on Wednesday, March 16 and Wednesday, June 8, 2016, at 1 p.m.

Meeting Access: Information regarding accessibility and/or accommodations for individuals with disabilities should be directed to Laura Bachle at the email address or phone number listed. To ensure adequate time for processing, please make requests for accommodations at least 10 days prior to the meeting.

Dated: February 10, 2016.
Benita Best-Wong,
Director, Office of Wetlands, Oceans and Watersheds.

[FR Doc. 2016-03211 Filed 2-16-16; 8:45 am]

BILLING CODE 6560-50-P